ENVIRONMENTAL PROTECTION AGENCY

40 CFR Part 52

[EPA-R05-OAR-2019-0267; FRL-10003-54-Region 5]

Air Plan Approval; Indiana; Limited Maintenance Plans for the 1997 Ozone NAAQS; Evansville, Fort Wayne, Greene County, Jackson County, Muncie, and Terre Haute Areas

AGENCY: Environmental Protection Agency (EPA).

ACTION: Final rule.

SUMMARY: The Environmental Protection Agency (EPA) is approving a revision to Indiana's State Implementation Plan (SIP). The state submitted an update to its 1997 8-hour ozone National Ambient Air Quality Standard (NAAQS or standard) Limited Maintenance Plans (LMP) for the Evansville, Fort Wayne, Greene County, Jackson County, Muncie, and Terre Haute areas. The plans for these areas provide for the maintenance of the 1997 8-hour ozone NAAQS through the end of the second 10-year portion of the maintenance period. This action makes federally enforceable as part of the Indiana SIP certain commitments related to maintenance of the 1997 8-hour ozone NAAQS in these areas. EPA proposed to approve this submission on August 19, 2019.

DATES: This final rule is effective on January 27, 2020.

ADDRESSES: EPA has established a docket for this action under Docket ID No. EPA-R05-OAR-2019-0267. All documents in the docket are listed on the www.regulations.gov website. Although listed in the index, some information is not publicly available, i.e., Confidential Business Information (CBI) or other information whose disclosure is restricted by statute. Certain other material, such as copyrighted material, is not placed on the internet and will be publicly available only in hard copy form. Publicly available docket materials are available either through www.regulations.gov or at the Environmental Protection Agency, Region 5, Air and Radiation Division, 77 West Jackson Boulevard, Chicago, Illinois 60604. This facility is open from 8:30 a.m. to 4:30 p.m., Monday through Friday, excluding Federal holidays. We recommend that you telephone Michael Leslie, Environmental Engineer, at (312) 353-6680 before visiting the Region 5 office.

FOR FURTHER INFORMATION CONTACT: Michael Leslie, Environmental Engineer, Control Strategies Section, Air Programs Branch (AR-18J), Environmental Protection Agency, Region 5, 77 West Jackson Boulevard, Chicago, Illinois 60604, (312) 353-6680, leslie.michael@epa.gov.

SUPPLEMENTARY INFORMATION: Throughout this document whenever “we,” “us,” or “our” is used, we mean EPA. This supplementary information section is arranged as follows:

I. What is being addressed by this document?

II. What comments did we receive on the proposed SIP revision?

III. What action is EPA taking?

IV. Statutory and Executive Order Reviews

I. What is being addressed by this document?

On April 25, 2019, Indiana submitted a request to update its 1997 8-hour ozone NAAQS LMPs for the Evansville, Fort Wayne, Greene County, Jackson County, Muncie, and Terre Haute areas. These LMPs are designed to maintain the 1997 8-hour ozone NAAQS through the end of the second 10-year period beyond redesignation.

II. What comments did we receive on the proposed SIP revision?

On August 19, 2019, EPA proposed approval (84 FR 42876) of Indiana's LMPs. An explanation of the Clean Air Act (CAA) requirements, a detailed analysis of the revisions, and EPA's reasons for proposing approval were provided in the notice of proposed rulemaking (NPRM), and will not be restated here. The comment period closed on September 18, 2019. EPA received one anonymous comment during the public comment period. This comment was not adverse and supports EPA's approval of Indiana's submittal.

III. What action is EPA taking?

Under the CAA, EPA is finalizing approval of Indiana's 1997 8-hour ozone NAAQS LMPs for the following areas: Evansville, Fort Wayne, Greene County, Jackson County, Muncie, and Terre Haute, as proposed. These LMPs meet all applicable requirements under CAA sections 110 and 175A.

IV. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by February 25, 2020. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Nitrogen dioxide, Particulate matter, Sulfur oxides, Volatile organic compounds.

Dated: December 9, 2019.
Cheryl L. Newton,
Acting Regional Administrator, Region 5.

40 CFR part 52 is amended as follows:

PART 52—APPROVAL AND PROMULGATION OF IMPLEMENTATION PLANS

1. The authority citation for part 52 continues to read as follows:

Authority: 42 U.S.C. 7401 et seq.

2. In § 52.770, the table in paragraph (e) is amended by:

a. Removing the entry for “Evansville Hydrocarbon Control Strategy” and adding in its place the entry “Ozone (8-Hour, 1997): Evansville, IN (Vanderburgh and Warrick Counties)”;

b. Removing the entry for “Fort Wayne Hydrocarbon Control Strategy” and adding in its place the entry “Ozone (8-Hour, 1997): Fort Wayne, IN (Allen County)”;

c. Removing the entry for “Greene and Jackson Counties Hydrocarbon Control Strategy” and adding in its place the entry “Ozone (8-Hour, 1997): Jackson Co., IN (Jackson County)”;

d. Removing the entry for “Greene County 1997 8-hour ozone maintenance plan” and adding in its place the entry “Ozone (8-Hour, 1997): Greene Co., IN (Greene County)”;

e. Removing the entries for “Muncie 1997 8-hour ozone maintenance plan” and “Muncie Hydrocarbon Control Strategy” and adding in its place the entry “Ozone (8-Hour, 1997): Muncie, IN (Delaware County)”; and

f. Removing the entry for “Terre Haute Hydrocarbon Control Strategy” and adding in its place the entry “Ozone (8-Hour, 1997): Terre Haute, IN (Vigo County)”.

The revisions read as follows:

§ 52.770 Identification of plan.

* * * * *

(e) * * *

EPA-Approved Indiana Nonregulatory and Quasi-Regulatory Provisions
Title | Indiana date | EPA approval | Explanation
* * * * * * *
Ozone (8-Hour, 1997): Evansville, IN (Vanderburgh and Warrick Counties) | 6/20/2019 | 12/27/2019, [insert Federal Register citation] | 2nd limited maintenance plan.
* * * * * * *
Ozone (8-Hour, 1997): Fort Wayne, IN (Allen County) | 6/20/2019 | 12/27/2019, [insert Federal Register citation] | 2nd limited maintenance plan.
Ozone (8-Hour, 1997): Jackson Co., IN (Jackson County) | 6/20/2019 | 12/27/2019, [insert Federal Register citation] | 2nd limited maintenance plan.
Ozone (8-Hour, 1997): Greene Co., IN (Greene County) | 6/20/2019 | 12/27/2019, [insert Federal Register citation] | 2nd limited maintenance plan.
* * * * * * *
Ozone (8-Hour, 1997): Muncie, IN (Delaware County) | 6/20/2019 | 12/27/2019, [insert Federal Register citation] | 2nd limited maintenance plan.
* * * * * * *
Ozone (8-Hour, 1997): Terre Haute, IN (Vigo County) | 6/20/2019 | 12/27/2019, [insert Federal Register citation] | 2nd limited maintenance plan.
* * * * * * *

[FR Doc. 2019-27544 Filed 12-26-19; 8:45 am]

BILLING CODE 6560-50-P